DEPARTMENT OF HEALTH AND HUMAN SERVICES

Centers for Disease Control and Prevention

Notice of Award of a Single-Source Cooperative Agreement To Fund the Eastern Cape Department of Health, South Africa

AGENCY: Centers for Disease Control and Prevention (CDC), Department of Health and Human Services (HHS).

ACTION: Notice.

SUMMARY: The Centers for Disease Control and Prevention (CDC), located within the Department of Health and Human Services (HHS), announces the award of approximately $1,250,000 for Year 1 of funding to the Eastern Cape Department of Health, South Africa. The award will strengthen public health policy implementation, strengthen Human Resources for Health (HRH) management, improve supply chain management, and strengthen Strategic Information (SI) management for program planning in the Eastern Cape Province of South Africa. Funding amounts for years 2-5 will be set at continuation.

DATES: The period for this award will be September 30, 2022 through September 29, 2027.

FOR FURTHER INFORMATION CONTACT: Rayna Taback-Esra, Center for Global Health, Centers for Disease Control and Prevention, P.O. Box 9536, Pretoria, 0001, South Africa, Telephone: 800-232-6348, Email: wxk7@cdc.gov.

SUPPLEMENTARY INFORMATION: The single-source award will fund the Eastern Cape Department of Health to strengthen public health policy implementation, strengthen HRH management, improve supply chain management, and strengthen strategic information management for program planning. Strengthened health systems will support the faster adoption of implementation of key policies and lead to a more efficient HIV/TB program in the Eastern Cape Province of South Africa. The East Cape Department of Health South Africa is in a unique position to conduct this work as it is responsible for the management of the provincial health budget and delivery of all provincial health services.

Summary of the Award

Recipient: Eastern Cape Department of Health, South Africa.

Purpose of the Award: The purpose of this award is to support a more efficient HIV/TB program in the Eastern Cape Province through improved HRH management, enhanced supply chain management, and strengthened SI management.

Amount of Award: The approximate year 1 funding amount will be $1,250,000 in Federal Fiscal Year (FFY) 2022 funds, subject to the availability of funds. Funding amounts for years 2-5 will be set at continuation.

Authority: The program is authorized under Public Law 108-25 (the United States Leadership Against HIV AIDS, Tuberculosis and Malaria Act of 2003).

Period of Performance: September 30, 2022 through September 29, 2027.

Dated: February 15, 2022.
Terrance Perry,
Chief Grants Management Officer, Centers for Disease Control and Prevention.

[FR Doc. 2022-03720 Filed 2-18-22; 8:45 am]

BILLING CODE 4163-18-P